DEPARTMENT OF TRANSPORTATION

Federal Railroad Administration

[Docket Number FRA-2016-0002-N-13]

Proposed Agency Information Collection Activities; Comment Request

AGENCY: Federal Railroad Administration (FRA), U.S. Department of Transportation (DOT).

ACTION: Notice and request for comments.

SUMMARY: In compliance with the Paperwork Reduction Act of 1995 (PRA), FRA is forwarding the Information Collection Request (ICR) renewals abstracted below to the Office of Management and Budget (OMB) for review and comment. The ICRs describe the nature of the information collections and their expected burden.

DATES: Comments must be submitted on or before July 5, 2016.

FOR FURTHER INFORMATION CONTACT: Mr. Robert Brogan, Information Collection Clearance Officer, Office of Railroad Safety, Safety Regulatory Analysis Division, RRS-21, Federal Railroad Administration, 1200 New Jersey Avenue SE., Mail Stop 25, Washington, DC 20590, (202) 493-6292; or Ms. Kimberly Toone, Information Collection Clearance Officer, Office of Information Technology, RAD-20, Federal Railroad Administration, 1200 New Jersey Avenue SE., Mail Stop 35, Washington, DC 20590, (202) 493-6132. These telephone numbers are not toll-free.

SUPPLEMENTARY INFORMATION: The PRA, 44 U.S.C. 3501-3520, and its implementing regulations, 5 Code of Federal Regulations (CFR) part 1320, require Federal agencies to issue two notices seeking public comment on information collection activities before OMB may approve paperwork packages. See 44 U.S.C. 3506, 3507; 5 CFR 1320.5, 1320.8(d)(1), and 1320.12. On February 24, 2016, FRA published a 60-day notice in the Federal Register soliciting comment on those ICRs for which the agency is now seeking OMB approval. See 80 FR 81423. FRA received no comments in response to that notice.

Before OMB decides whether to approve these proposed collections of information, it must provide 30 days for public comment. See 44 U.S.C. 3507(b); 5 CFR 1320.12(d). Federal law requires OMB to approve or disapprove paperwork packages between 30 and 60 days after the 30-day notice is published. See 44 U.S.C. 3507(b)-(c); 5 CFR 1320.12(d); and 60 FR 44978, 44983, Aug. 29, 1995. OMB believes the 30-day notice informs the regulated community to file relevant comments and affords the agency adequate time to digest public comments before it renders a decision. See 60 FR 44983, Aug. 29, 1995. Therefore, respondents should submit their respective comments to OMB within 30 days of publication of this notice to best ensure having their full consideration. See 5 CFR 1320.12(c) and 60 FR 44983.

The summaries below describe the nature of the ICRs and their expected burdens. FRA is submitting the renewal requests for clearance by OMB as required by the PRA.

(1) Title: Designation of Qualified Persons.

OMB Control Number: 2130-0511.

Abstract: The collection of information is used to prevent the unsafe movement of defective freight cars. Railroads must inspect freight cars for compliance and when noncompliance is found, determine proper restrictions for the movement of defective cars.

Type of Request: Extension without change of a currently approved information collection.

Affected Public: Businesses (railroads).

Form(s): N/A.

Total Annual Estimated Responses: 1,200.

Total Annual Estimated Burden: 40 hours.

(2) Title: Qualification and Certification of Locomotive Engineers.

OMB Control Number: 2130-0533.

Abstract: Section 4 of the Rail Safety Improvement Act of 1988, Public Law 100-342, 102 Statute 624 (June 22, 1988), later amended and re-codified by Public Law 103-272, 108 Statute 874 (July 5, 1994), required FRA to issue regulations establishing a program for certifying or licensing locomotive engineers. FRA uses the collection of information to ensure railroads employ and properly train qualified individuals as locomotive engineers and designated supervisors of locomotive engineers. FRA also uses the collection of information to verify railroads have established required certification programs for locomotive engineers and that those programs fully conform to the standards specified in the regulation.

Type of Request: Extension without change of a currently approved information collection.

Form(s): N/A.

Total Annual Estimated Responses: 216,863.

Total Annual Estimated Burden: 272,672 hours.

Addressee: Send comments regarding these information collections to the Office of Information and Regulatory Affairs, Office of Management and Budget, 725 Seventeenth Street NW., Washington, DC 20503, Attention: FRA Desk Officer. Comments may also be sent via email to OMB at oira_submissions@omb.eop.gov.

Comments are invited on the following: Whether the ICRs are necessary for DOT to properly perform its functions, including whether the information will have practical utility; the accuracy of DOT's estimates of the burden of the ICRs; ways to enhance the quality, utility, and clarity of the information to be collected; and ways to minimize the burden of the ICRs on respondents, including using automated collection techniques or other forms of information technology.

A comment to OMB is best assured of having its full effect if OMB receives it within 30 days of publication of this notice in the Federal Register.

Authority: 44 U.S.C. 3501-3520.

Issued in Washington, DC, on May 31, 2016.
Corey Hill,
Executive Director.

[FR Doc. 2016-13141 Filed 6-2-16; 8:45 am]

BILLING CODE 4910-06-P